DEPARTMENT OF LABOR

Employment and Training Administration

[TA-W-39,382 and NAFTA-4942]

Allied Vaughn, Clinton, Tennessee; Notice of Negative Determination Regarding Application for Reconsideration

By application of December 10, 2001, the company requested administrative reconsideration of the Department's negative determination regarding eligibility for workers and former workers of the subject firm to apply for Trade Adjustment Assistance (TAA) under petition TA-W-39,382, and North American Free Trade Agreement-Transitional Adjustment Assistance (NAFTA-TAA) under petition NAFTA-4942. The denial notices applicable to workers of Allied Vaughn, Clinton, Tennessee, were signed on November 27, 2001, and published in the Federal Register on December 18, 2001 (66 FR 65220 and 66 FR 65221, respectively).

Pursuant to 29 CFR 90.18(c) reconsideration may be granted under the following circumstances:

(1) If it appears on the basis of facts not previously considered that the determination complained of was erroneous;

(2) if it appears that the determination complained of was based on a mistake in the determination of facts not previously considered; or

(3) If in the opinion of the Certifying Officer, a mis-interpretation of facts or of the law justified reconsideration of the decision.

The TAA petition, filed on behalf of workers at Allied Vaughn, Clinton, Tennessee, engaged in customer service activities for a firm which replicated VHS video activities, was denied because the petitioning workers did not produce an article within the meaning of Section 222(3) of the Act.

The NAFTA-TAA petition, filed on behalf of workers engaged in customer service activities for a firm which replicated VHS video, was denied because the petitioning workers did not produce an article within the meaning of Section 250(a) of the Trade Act, as amended.

The petitioner alleges that the Allied Vaughn, Clinton, Tennessee workers were engaged in activities related to the replication of VHS video cassettes.

Upon examination of the application and information provided in the initial investigation, the Department of Labor concurs with the petitioners' allegation that the workers were engaged in activities related to the replicating of VHS videos.

The petitioner further alleges that the subject plant workers should be tied to another group of workers who were certified under TA-W-39,344 and NAFTA-TAA-4913. Those workers were engaged in the replication of compact discs at the same location under the company name AmericDisc, Inc. This allegation is based on the fact that workers of Allied Vaughn commingled various administrative and other non-manufacturing functions at the Clinton facility.

Prior to December 2000, the two product lines were under the control of Allied Digital Technologies, Clinton, Tennessee. Allied Digital Technologies then sold each product line to a different company. The compact disc line was purchased by AmericDisc, Inc. and the VHS cassette line went to Allied Vaughn, a.k.a. Willette Acquisition Corporation. However, although the companies now owned separate product lines, they agreed to continue to share non-manufacturing workers as a cost saving measure.

Since the workers of Allied Vaughn were engaged exclusively in the replication of VHS cassettes, the inport data of compact discs used to certify workers at AmericDisc, Inc. cannot be used in this investigation.

The major contributing factor leading to the layoffs at the subject plant was completely unrelated to imports of replicated VHS cassettes. The sole catalyst concerned the transfer of AmericDisc, Inc. operations to Canada. This led Allied Vaughn to close the facility, as it was no longer efficient for their needs, effectively causing the subject plant to shift their production domestically.

Finally, since the companies are not legally affiliated, the subject firm cannot be tied to the AmeriDisc, Inc. TAA and/or NAFTA certifications.

Conclusion

After review of the application and investigative findings, I conclude that there has been no error or misinterpretation of the law or of the facts which would justify reconsideration of the Department of Labor's prior decisions. Accordingly, the application is denied.

Signed at Washington, DC, this 19th day of March, 2002.
Edward A. Tomchick,
Director, Division of Trade Adjustment Assistance.

[FR Doc. 02-9346 Filed 4-16-02; 8:45 am]

BILLING CODE 4510-30-M